DEPARTMENT OF HOMELAND SECURITY

8 CFR Chapter I

[CIS No. 2617-18; DHS Docket No. USCIS-2018-0001]

RIN 1615-AC19

Ratification of Department Actions

AGENCY: Department of Homeland Security (DHS).

ACTION: Ratification.

SUMMARY: The Department of Homeland Security is publishing notification of the Secretary of Homeland Security's ratification of a rule.

DATES: The ratification was signed on May 4, 2021 and relates back to the original date of each action that it ratifies.

FOR FURTHER INFORMATION CONTACT: Leo (Chip) Boucher, Assistant General Counsel, Administrative Law, Office of the General Counsel, Department of Homeland Security, Washington, DC 20528, (202) 282-9822.

SUPPLEMENTARY INFORMATION: On May 4, 2021, the Secretary of Homeland Security ratified a final rule entitled, Removal of 30-Day Processing Provision for Asylum Applicant-Related Form I-765 Employment Authorization Applications, as well as the associated notice of proposed rulemaking. See 85 FR 37502 (June 22, 2020); 84 FR 47148 (Sept. 9, 2019). The Department is now publishing the ratification in the Federal Register out of an abundance of caution. Neither the ratification nor the publication is a statement that the ratified action would be invalid absent the ratification, whether published or otherwise.

Signed:
Adam Hunter,
Deputy Assistant Secretary for Immigration Policy, U.S. Department of Homeland Security.

[FR Doc. 2021-16329 Filed 7-29-21; 8:45 am]

BILLING CODE 9112-FP-P